DEPARTMENT OF HEALTH AND HUMAN SERVICES

Substance Abuse and Mental Health Services Administration

Agency Information Collection Activities Under Emergency Review by the Office of Management and Budget

The Substance Abuse and Mental Health Services Administration (SAMHSA) has submitted the following request (see below) for emergency OMB review under the Paperwork Reduction Act (44 U.S.C. Chapter 35). OMB approval has been requested by April 15. A copy of the information collection plans may be obtained by calling the SAMHSA Reports Clearance Officer on (301) 443-7978.

Title: Reach Out Now National Teach-In Initiative Feedback Form.

OMB Number: 0930-New.

Frequency: On-occasion.

Affected public: Not-for profit institutions; State, Local or Tribal governments.

Under section 515(b) of the Public Health Service Act (42 U.S.C. 290bb-21), the Center for Substance Abuse Prevention (CSAP) of the Substance Abuse and Mental Health Services Administration (SAMHSA) is directed to develop effective alcohol abuse prevention literature and, to assure the widespread dissemination of prevention materials among States, political subdivisions, and school systems. Each April, SAMHSA collaborates with Scholastic Inc. in the April distribution of Reach Out Now: Talk to Your Fifth Grader About Underage Alcohol Use, a supplement created and distributed by Scholastic Inc.

Beginning in April 2004, SAMHSA will sponsor a national Teach-In to foster a conversation with fifth graders on the dangers of early alcohol use. State substance abuse prevention directors have nominated organizations to participate in this program. The Teach-In program builds upon the highly successful national initiative of the Leadership to Keep Children Alcohol Free, which is focused on preventing alcohol use among children ages 9 to 15 and is spearheaded by more than 40 current and past Governors' spouses, who have held or supported Reach Out Now Teach-Ins in their States.

Organizations that agree to participate in this SAMHSA initiative will be asked to provide feedback information about the implementation and results of the Teach-In event in their community school.

Number of respondents | Responses/respondent | Burden/response (hrs.) | Total burden hours
75 | 1 | .167 | 13

Emergency approval is being requested because of the importance of obtaining this feedback information so that program modifications can be identified, as appropriate, for next year's national Teach-In program.

Written comments and recommendations concerning the proposed information collection should be sent by April 15 to: John Kraemer, Human Resources and Housing Branch, Office of Management and Budget, New Executive Office Building, Room 10235, Washington, DC 20503; due to potential delays in OMB's receipt and processing of mail sent through the U.S. Postal Service, respondents are encouraged to submit comments by fax to: 202-395-6974.

Dated: March 11, 2004.
Anna Marsh,
Executive Officer, SAMHSA.

[FR Doc. 04-6080 Filed 3-17-04; 8:45 am]

BILLING CODE 4162-20-P